DEPARTMENT OF JUSTICE

Notice of Lodging of a Consent Decree Under the Clean Water Act

Notice is hereby given that on December 22, 2010, a proposed Consent Decree in United States and the State of Ohio v. Northeast Ohio Regional Sewer District, Civil Action No. 10-cv-02895 was lodged with the United States District Court for the Northern District of Ohio.

In this action the United States and the State of Ohio seeks civil penalties and injunctive relief for violations of the Clean Water Act, 33 U.S.C. 1251 et seq., in connection with the Northeast Ohio Regional Sewer District's (“NEORSD”) operation of its municipal wastewater and sewer system. The Complaint alleges that the NEORSD's discharges from its combined sewer overflows (“CSOs”) violate the Clean Water Act because the discharge of sewage violates limitations and conditions in NEORSD's National Pollutant Discharge Elimination System (NPDES) permits. The Complaint further alleges that NEORSD's bypasses of wastewater of its treatment plants' processes also violate its NPDES permits.

Under the proposed Consent Decree, NEORSD will be required to implement injunctive measures, including the construction of seven deep underground tunnel systems—to reduce its CSO discharges—and construction of treatment plant expansions, for a total cost of approximately $3 billion. NEORSD will also invest $42 million in green infrastructure that will further reduce its CSO discharge by 44 million gallons. The Consent Decree allows NEORSD the opportunity to propose additional green infrastructure projects in exchange for a reduction in scope of the traditional infrastructure projects. NEORSD will pay $1.2 million in civil penalties to be split evenly between the United States and the State of Ohio. NEORSD will also spend $1 million to operate a permanent hazardous waste collection center in Cuyahoga County and $800,000 to improve other water resources. Under the proposed Consent Decree, the injunctive relief is to be implemented over a 25-year period.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to United States v. Northeast Ohio Regional Sewer District, D.J. Ref. 90-5-1-1-08177/1.

The proposed Consent Decree may be examined at the Office of the United States Attorney, Northern District of Ohio, 801 West Superior Avenue, Suite 400, Cleveland, OH 44113 (contact Assistant United States Attorney Steven J. Paffilas (216) 622-3698), and at U.S. Environmental Protection Agency, Region 5, 77 West Jackson Boulevard, Chicago, IL 60604-3590 (contact Associate Regional Counsel Nicole Cantello (312) 886-2870)). During the public comment period, the proposed Consent Decree, may also be examined on the following Department of Justice Web site, to http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $28.75 (25 cents per page reproduction cost) payable to the U.S. Treasury or, if by e-mail or fax, forward a check in that amount to the Consent Decree Library at the stated address.

Maureen M. Katz,
Assistant Chief, Environmental Enforcement Section, Environment and Natural Resources Division.

[FR Doc. 2010-32661 Filed 12-28-10; 8:45 am]

BILLING CODE 4410-15-P